SMALL BUSINESS ADMINISTRATION

[License No. 09/09-0461]

Alpine Investors IV SBIC, LP; Notice Seeking Exemption Under Section 312 of the Small Business Investment Act, Conflicts of Interest

Notice is hereby given that Alpine Investors IV SBIC, LP, 3 Embarcadero Center, Suite 2330, San Francisco, CA, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Alpine Investors IV SBIC, LP, proposes to provide subordinate debt and equity security financing to GrowthFire, LLC 4235 Foxberry Court, Minneapolis, MN 55340. The financing is contemplated for the purchase of 100 percent of the stock of Great Bay Software, Inc., to fund transaction fees, and for working capital purposes.

The financing is brought within the purview of § 107.730(a) of the Regulations because an Associate of Alpine Investors IV SBIC, LP, as defined in Sec. 105.50 of the regulations, has an ownership interest in GrowthFire, LLC of 10 percent.

Notice is hereby given that any interested person may submit written comments on the transaction to the Associate Administrator for Investment and Innovation, U.S. Small Business Administration, 409 Third Street SW., Washington, DC 20416.

Harry Haskins,
Acting Associate Administrator for Investment and Innovation.

[FR Doc. 2013-11431 Filed 5-13-13; 8:45 am]

BILLING CODE 8025-01-P